DEPARTMENT OF EDUCATION

[Docket No.: ED-2022-SCC-0132]

Agency Information Collection Activities; Submission to the Office of Management and Budget for Review and Approval; Comment Request; School Pulse Panel 2023-24 Preliminary Field Activities

AGENCY: National Center for Education Statistics (NCES), Department of Education (ED).

ACTION: Notice.

SUMMARY: In accordance with the Paperwork Reduction Act (PRA) of 1995, the Department is proposing a new information collection request (ICR).

DATES: Interested persons are invited to submit comments on or before February 2, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel Preliminary Field Activities.

OMB Control Number: 1850-NEW.

Type of Review: New ICR.

Respondents/Affected Public: State, Local or Tribal Governments.

Total Estimated Number of Annual Responses: 9,939.

Total Estimated Number of Annual Burden Hours: 2,661.

Abstract: The School Pulse Panel (SPP) is a data collection originally designed to collect voluntary responses from a nationally representative sample of public schools to better understand how schools, students, and educators are responding to the ongoing stressors of the coronavirus pandemic. It is conducted by the National Center for Education Statistics (NCES), part of the Institute of Education Sciences (IES), within the United States Department of Education, in cooperation with the U.S. Census Bureau. Due to the immediate need to collect information from schools during the pandemic to satisfy the requirement of Executive Order 14000, an emergency clearance was issued to develop and field the first several monthly collections of the SPP in 2021, and a full review of the SPP data collection was completed in 2022 (OMB# 1850-0969). SPP's innovative design and timely dissemination of findings have been used and cited frequently among Department of Education senior leadership, the White House Domestic Policy Counsel, the USDA's Food and Nutrition Service, the Centers for Disease Control and Prevention, Congressional deliberations, and the media. The ongoing, growing interest by stakeholders has resulted in the request for dedicated funding to create an established NCES quick-turnaround data collection vehicle, with the goal of standing up a post-pandemic panel to begin with the 2023-24 school year. One notable difference for the next SPP study will be the addition of a district-level survey. The purpose of the district component is two-fold: (1) to collect data on topics that schools cannot report about such as facilities, supply chain issues and finances; and (2) to reduce burden on schools by allowing district staff to report on district policies and school level data tracked at the district. The district component will enhance the breadth of data that can be collected in SPP. For the 23-24 school year, the survey may ask school and district staff about a range of topics, including but not limited to instructional mode offered; enrollment counts of subgroups of students for various subject interests; strategies to address learning recovery; safe and healthy school mitigation strategies; mental health services; use of technology; information on staffing, nutrition services, absenteeism, usage of federal funds, facilities, and overall principal and district staff experiences. Some new content will be rotated in and out monthly. As in previous waves, for SPP 2023-24 roughly 5,000 (4,000 in an initial sample and 1,000 in a reserve sample) public elementary, middle, high, and combined-grade schools will be randomly selected to participate in a panel. It is expected these schools will come from roughly 3,000 districts with a reserve sample of 300 districts to replace district refusals. The goal is national representation from 1,000 responding schools and districts to report national estimates. School and district staff will be asked to provide requested data as frequently as monthly during the 23-24 school year. This approach provides the ability to collect detailed information on various topics while also assessing changes over time for items that are repeated. Given the high demand for data collection, the content of the survey will change monthly. This request is to conduct the SPP 2023-24 preliminary activities, including contacting and obtaining research approvals from public school districts with an established research approval process (“special contact districts”), notifying sampled schools and districts of their selection for the survey, and inviting them to complete short Screener Surveys to establish a point of contact at their school and at the district.

Dated: December 28, 2022.
Stephanie Valentine,
PRA Coordinator, Strategic Collections and Clearance, Governance and Strategy Division, Office of Chief Data Officer, Office of Planning, Evaluation and Policy Development.

[FR Doc. 2022-28516 Filed 12-30-22; 8:45 am]

BILLING CODE 4000-01-P